DEPARTMENT OF COMMERCE

Foreign-Trade Zones Board

[B-13-2016]

Foreign-Trade Zone (FTZ) 141—Monroe County, New York; Authorization of Proposed Production Activity; Xerox Corporation; Subzone 141B (Bulk Xerographic Toner, Toner Cartridges and Photoreceptors); Webster, New York

On March 7, 2016, the County of Monroe, New York, grantee of FTZ 141, submitted a notification of proposed production activity to the FTZ Board on behalf of Xerox Corporation (Xerox) located within Subzone 141B in Webster, New York.

The notification (updated on April 26, 2016) was processed in accordance with the regulations of the FTZ Board (15 CFR part 400), including notice in the Federal Register inviting public comment (81 FR 14834, March 18, 2016). The FTZ Board has determined that no further review of the activity is warranted at this time. The production activity described in the updated notification is authorized, subject to the FTZ Act and the Board's regulations, including Section 400.14.

Dated: July 5, 2016.
Andrew McGilvray,
Executive Secretary.

[FR Doc. 2016-16375 Filed 7-8-16; 8:45 am]

BILLING CODE 3510-DS-P